DEPARTMENT OF THE TREASURY

Internal Revenue Service

Open Meeting of the Area 3 Taxpayer Advocacy Panel (Including the States of Florida, Georgia, Alabama, Mississippi, Louisiana, Arkansas and Tennessee); Correction

AGENCY: Internal Revenue Service (IRS), Treasury.

ACTION: Correction to notice of an open meeting.

SUMMARY: This document contains a correction to a notice of an open meeting which was published in the Federal Register on August 24, 2004 (69 FR 52066). This notice relates to the Taxpayer Advocacy Panel's solicitation of public comments, ideas, and suggestions on improving customer service at the Internal Revenue Service.

FOR FURTHER INFORMATION CONTACT: Sallie Chavez at 1-888-912-1227 (toll-free), or 954-423-7979 (non-toll free).

SUPPLEMENTARY INFORMATION:

Background

The notice of an open meeting that is the subject of this correction is under section 10(a)(2) of the Federal Advisory Committee Act, 5 U.S.C. App. (1988).

Need for Correction

As published, the notice of an open meeting contains errors that may prove to be misleading and are in need of clarification.

Correction of Publication

Accordingly, the publication of the notice of an open meeting, which is the subject of FR Doc. 04-19354, is corrected as follows:

On page 52066, column 3, under the caption SUPPLEMENTARY INFORMATION: lines 8 through 10, the language “12 p.m. and from 1 p.m. to 5 p.m. EDT and Saturday, September 18, 2004, from 8:30 a.m. to 12 p.m. EDT in Nashville,” is corrected to read “12 p.m. and from 1 p.m. to 5 p.m. CDT and Saturday, September 18, 2004, from 8:30 a.m. to 12 p.m. CDT in Nashville”.

Cynthia E. Grigsby,
Acting Chief, Publications and Regulations Branch, Legal Processing Division, Associate Chief Counsel (Procedures and Administration).

[FR Doc. 04-20461 Filed 9-8-04; 8:45 am]

BILLING CODE 4830-01-P